DELAWARE RIVER BASIN COMMISSION

Notice of Commission Meeting and Public Hearing

Notice is hereby given that the Delaware River Basin Commission will hold an informal conference followed by a public hearing on Wednesday, July 18, 2007. The hearing will be part of the Commission's regular business meeting. Both the conference session and business meeting are open to the public and will be held at the Commission's office building, located at 25 State Police Drive in West Trenton, New Jersey.

The conference among the commissioners and staff will begin at 10:15 a.m. Topics include a presentation on a revised proposal for a Flexible Flow Management Program (FFMP) for the New York City Delaware Basin Reservoirs; a presentation on proposed amendments to the Commission's Special Protection Waters regulations; and a presentation on proposed amendments to the Water Code relating to water accountability and source metering, recording and reporting.

The subjects of the public hearing to be held during the 2 p.m. business meeting include the dockets listed below:

1. South Coatesville Borough D-74-39 CP-2. An application for approval of the rerate of the existing South Coatesville Borough wastewater treatment plant (WWTP). The permitted discharge from the applicant's WWTP will increase from an annual average daily flow of 0.365 million gallons per day (mgd) to 0.381 mgd and will continue to be discharged to the West Branch Brandywine Creek. The facility is located in South Coatesville Borough, Chester County, Pennsylvania.

2. Kent County Levy Court D-77-87 CP-2. An application for approval of the expansion of the existing Kent County Levy Court WWTP. The permitted discharge from the applicant's WWTP will increase from a daily flow of 15.0 mgd to 16.3 mgd and will continue to be discharged to The Gut, a tributary to the Murderkill River. The facility is located in the City of Milford, Kent County, Delaware.

3. Hackettstown Municipal Utilities Authority D-91-30 CP-2. An application to expand a 3.3 mgd wastewater treatment plant to process 3.39 mgd. The plant is located in Washington Township, Morris County, New Jersey. The plant will continue to treat wastewater from the Town of Hackettstown, Mansfield Township, Independence Township and Allamuchy Township, all in Warren County; and Washington Township and Mount Olive Township in Morris County, New Jersey. The additional capacity is needed to serve the service area previously served by the former Diamond Hill Sewer Company. Treatment plant effluent will continue to be discharged to the Musconetcong River in the Musconetcong River Watershed via the existing outfall. The defunct Diamond Hill treatment facility and discharge to Hence's Brook will be abandoned.

4. Aqua New Jersey, Inc. D-93-13 CP-3. An application for the renewal of a ground water withdrawal project to increase withdrawal from 198.5 mg/30 days to 237 mg/30 days to supply the applicant's Blackwood District public water supply distribution system from existing Wells Nos. 3, 6, 7, 13, 15, 17 and 20 located within the Delaware River basin and 8 wells located outside of the basin in the Cohansey, Mt. Laurel and Potomac-Raritan-Magothy Formations. The increased allocation is requested in order to meet projected increases in service area demand. The project is located in the Big Timber Creek Watershed in Gloucester Township, Camden County, New Jersey.

5. Reading Area Water Authority D-2000-59 CP-2. An application for approval to transfer up to 1.5 mgd and up to 45 mg/30 days of potable water from the Reading Area Water Authority (RAWA) system to the Pennsylvania American Water Company (PAWC) Glen Alsace District water distribution system. Some of the water supply is also needed to serve PAWC's customers in its Douglassville District via an existing interconnection. RAWA proposes no increase of existing allocation of 35 mgd (1,050 mg/30 days) of water from its Lake Ontelaunee Reservoir, which is located in Ontelaunee Township, Berks County, Pennsylvania. The project also includes the revision of the RAWA Operating Plan to reflect the service area modification, conservation release improvements and fisheries protection measures. The reservoir is situated on Maiden Creek in the Schuylkill River Watershed.

6. Borough of Portland D-2003-9 CP-2. An application to modify the proposed WWTP that was approved by DRBC Docket No. D-2003-9 CP on January 19, 2005, but not constructed due to cost considerations. The WWTP design capacity will remain 0.105 mgd, but the modified design involves treatment processes that cost less to construct and maintain than those in the approved design. The proposed membrane ultra-filtration system will eliminate the need for clarifiers and a tertiary filter, while still meeting docket and NPDES permit limitations. The WWTP will provide tertiary treatment of flow from the proposed Portland Industrial Park and from local on-lot septic systems located in Portland Borough, Northampton County, Pennsylvania. The WWTP will be constructed in the southeast corner of Portland Borough and the project outfall diffuser will discharge to the Delaware River. The project is located within the drainage area to a section of the non-tidal Delaware River known as the Lower Delaware, which is classified as Special Protection Waters.

7. Pennsylvania American Water Company D-2006-33 CP-2. An application for approval of a groundwater withdrawal project to supply up to 7.34 mg/30 days of water to the applicant's public supply distribution system from new Well PW3 and to increase the existing withdrawal from all wells from 15.12 mg/30 days to 18.57 mg/30 days. The increased allocation is requested in order to meet projected increases in service area demand. New Well PW3 is located in the Trimmers Rock Formation in the Brodhead Creek Watershed in Stroud Township, Monroe County, Pennsylvania. The site is located within the drainage area to the section of non-tidal Delaware River known as the Middle Delaware, which is classified as Special Protection Waters.

8. Wissahickon Spring Water, Inc. D-2006-29-1. An application for approval to discharge up to 0.1008 mgd to Kaercher Creek, a tributary of the Schuylkill River, from a bottled water filtration plant. The wastewater currently discharges into sanitary drains within the building. The applicant will install 3 reverse osmosis units and will discharge the rinse water through new Outfall No. 001. The facility is located in the Schuylkill River Watershed in Hamburg Borough, Berks County, Pennsylvania.

9. Pocono Manor Investors Pt. 1, L.P. D-2006-43-1. An application for approval of a ground water withdrawal project to supply up to 30.24 mg/30 days of water to the applicant's resort from new Wells Nos. 1, 2 and 3 and to limit the existing withdrawal from all wells to 30.24 mg/30 days. The project is located in the Catskill Formation in the Brodhead/Swiftwater Creek Watershed in Pocono Township, Monroe County, Pennsylvania. This withdrawal project is located within the drainage area to the section of the non-tidal Delaware River known as the Middle Delaware, which is classified as Special Protection Waters.

10. Royersford Borough D-2006-45 CP-1. An application for approval to expand the existing Royersford Borough WWTP from a design flow of 0.54 mgd to 0.70 mgd. WWTP effluent will continue to be discharged to the Schuylkill River. The facility is located directly outside of Royersford Borough, in Upper Providence Township, Montgomery County, Pennsylvania.

11. Jackson Township Authority D-2007-4 CP-1. An application for the approval of a new 0.5 mgd WWTP. The applicant's new WWTP will discharge to an unnamed tributary of the Tulpehocken Creek, a tributary to the Schuylkill River, at a point upstream of Blue Marsh Reservoir. The facility will be located in Jackson Township, Lebanon County, Pennsylvania.

12. Cott Beverages Inc. D-2007-6-1. An application for approval to expand the applicant's existing IWTP from 0.023 mgd to 0.070 mgd to serve its beverage (soft drinks and carbonated water) production facility. The IWTP will continue to discharge to the West Branch Chester Creek in the Chester Creek Watershed. The facility is located in Concord Township, Delaware County, Pennsylvania.

13. Bath Borough Authority D-2007-16 CP-1. An application for approval of a ground water withdrawal project to supply up to 15 mg/30 days of water to the applicant's public supply distribution system from new Wells Smith Street, Allen Street and Holiday Hill. The project is located in the Ontelaunee and Martinsburg formations in the Monacacy Creek and East Monacacy Creek watersheds in Bath Borough, Northampton County, Pennsylvania. The project site is located within the drainage area to the section of the non-tidal Delaware River known as the Lower Delaware, which is classified as Special Protection Waters.

14. Altivity Packaging LLC D-2007-20-1. An application for approval of a surface water withdrawal project to supply up to 210 mg/30 days of water to the applicant's industrial operations from existing Intake No. 1. The project is located in the Schuylkill River Watershed in the City of Philadelphia, Pennsylvania.

In addition to the public hearing on the dockets listed above, the Commission's 2 p.m. business meeting will include: a public hearing and consideration of a resolution for the minutes increasing the authorized value of a contract with Princeton Hydrologics, LLC for modifications to the site of the Commission's West Trenton office building to improve stormwater management; a resolution authorizing the executive director to enter into an agreement for analysis of emerging contaminants in ambient waters of the tidal Delaware River; a resolution authorizing the executive director to enter into an agreement with the Susquehanna River Basin Commission for DRBC to perform tasks in connection with water conservation aspects of Pennsylvania's State Water Planning Act; and a resolution for the minutes authorizing the executive director to enter into an agreement to provide support to the Commonwealth of Pennsylvania on water resources issues.

The meeting will also include: adoption of the Minutes of the Commission's May 10, 2007 business meeting; announcements of upcoming advisory committee meetings and other events; a report by the Executive Director; a report by the Commission's General Counsel; and an opportunity for public dialogue.

Draft dockets scheduled for public hearing on July 18, 2007 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: June 25, 2007.
Pamela M. Bush,
Commission Secretary.

[FR Doc. E7-12638 Filed 6-28-07; 8:45 am]

BILLING CODE 6360-01-P